DEPARTMENT OF HEALTH AND HUMAN SERVICES

National Institutes of Health

National Institute of Environmental Health Sciences; Amended Notice of Meeting

Notice is hereby given of a change in the meeting of the National Institute of Environmental Health Sciences Special Emphasis Panel, March 19, 2001, 1 p.m. to March 19, 2001, 3 p.m., NIEHS, 79 T. Alexander Drive, Building 4401, Conference Room 3446, Research Triangle Park, NC, 27709 which was published in the Federal Register on January 22, 2001, 66 FR 6641.

The telephone conference call meeting will be held on February 20, 2001, from 1 p.m. to 3 p.m. at the same location, instead of March 19, 2000, as previously advertised. The meeting is closed to the public.

Dated: January 30, 2001.
LaVerne Y. Stringfield,
Director, Office of Federal Advisory Committee Policy.

[FR Doc. 01-3460 Filed 2-9-01; 8:45 am]

BILLING CODE 4140-01-M